NATIONAL AERONAUTICS AND SPACE ADMINISTRATION

[Notice (00-128)]

Notice of Prospective Patent License

AGENCY: National Aeronautics and Space Administration.

ACTION: Notice of Prospective Patent License.

SUMMARY: NASA hereby gives notice that Cyrospace Technologies, of Houston, Texas has applied for an exclusive license to practice the inventions disclosed in U.S. Patent Nos. 5,651,079 and 5,963,683 both entitled “Photonic Switching Devices Using Light Bullets” which are assigned to the United States of America as represented by the Administrator of the National Aeronautics and Space Administration. Written objections to the prospective grant of a license should be sent to Ames Research Center.

DATES: Response to this notice must be received on or before December 19, 2000.

FOR FURTHER INFORMATION CONTACT: Rob Padilla, Patent Counsel, NASA Ames Research Center, Mail Stop 202A-3, Moffett Field, CA 94035-1000, telephone (650) 604-5104.

Dated: October 13, 2000.
Edward A. Frankle,
General Counsel.

[FR Doc. 00-26977 Filed 10-19-00; 8:45 am]

BILLING CODE 7510-01-P